DEPARTMENT OF DEFENSE

Office of the Secretary

[Transmittal No. 25-81]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-81, Policy Justification, and Sensitivity of Technology.

Dated: January 22, 2026.
Stephanie J. Bost,
Alternate OSD Federal Register Liaison Officer, Department of Defense.

BILLING CODE 6001-FR-P

BILLING CODE 6001-FR-C

Transmittal No. 25-81

Notice of Proposed Issuance of Letter of Offer Pursuant to Section 36(b)(1) of the Arms Export Control Act, as amended

(i) Prospective Purchaser: Government of Germany

(ii) Total Estimated Value:

Major Defense Equipment * | $1.10 billion
Other | $0.13 billion
TOTAL | $1.23 billion

(iii) Description and Quantity or Quantities of Articles or Services under Consideration for Purchase:

Major Defense Equipment (MDE):

Up to four hundred (400) AIM-120D-3 Advanced Medium Range Air-to-Air Missiles (AMRAAM)

Up to 12 twelve (12) AIM-120D-3 AMRAAM guidance sections, including precise positioning provided by either Selective Availability Anti-Spoofing Module or M-Code

One (1) AIM-120 AMRAAM Integrated Test Vehicle

Non-Major Defense Equipment:

The following non-MDE items will also be included: AMRAAM telemetry kits, control sections, containers, and support equipment; ADU-891 Adaptor Group Test Sets; KGV-135A encryption devices; spare parts, consumables and accessories, and repair and return support; weapons system support and software; classified and unclassified software delivery and support; classified and unclassified publications and technical documentation; personnel training and training equipment; United States (U.S.) Government and contractor engineering, technical, and logistics support services; and other related elements of logistics and program support.

(iv) Military Department: Air Force (GY-D-YAM)

(v) Prior Related Cases, if any: None

(vi) Sales Commission, Fee, etc., Paid, Offered, or Agreed to be Paid: None known at this time

(vii) Sensitivity of Technology Contained in the Defense Article or Defense Services Proposed to be Sold: See Attached Annex

(viii) Date Report Delivered to Congress: September 25, 2025

* as defined in Section 47(6) of the Arms Export Control Act.

POLICY JUSTIFICATION

Germany—AIM-120D-3 Advanced Medium Range Air-to-Air Missiles

The Government of Germany has requested to buy up to four hundred (400) AIM-120D-3 Advanced Medium Range Air-to-Air Missiles (AMRAAM); up to twelve (12) AIM-120D-3 AMRAAM guidance sections, including precise positioning provided by either Selective Availability Anti-Spoofing Module or M-Code; and one (1) AIM-120 AMRAAM Integrated Test Vehicle. The following non-Major Defense Equipment items will also be included: AMRAAM telemetry kits, control sections, containers, and support equipment; ADU-891 Adaptor Group Test sets; KGV-135A encryption devices; spare parts, consumables and accessories, and repair and return support; weapons system support and software; classified and unclassified software delivery and support; classified and unclassified publications and technical documentation; personnel training and training equipment; U.S. Government and contractor engineering, technical, and logistics support services; and other related elements of logistics and program support. The estimated total cost is $1.23 billion.

This proposed sale will support the foreign policy goals and national security objectives of the U.S. by improving the security of a NATO Ally that is a force for political stability and economic progress in Europe.

The proposed sale will improve Germany's capability to meet current and future threats by providing increased air-to-air capability for the German F-35 program and supporting German and shared NATO planning, training, and operational requirements. Germany will have no difficulty absorbing these articles into its armed forces.

The proposed sale of this equipment and support will not alter the basic military balance in the region.

The principal contractor will be RTX Corporation, located in Arlington, VA. At this time, the U.S. Government is not aware of any offset agreement proposed in connection with this potential sale. Any offset agreement will be defined by in negotiations between the purchaser and the contractor.

Implementation of this proposed sale will not require the assignment of any additional U.S. Government or contractor representatives to Germany.

There will be no adverse impact on U.S. defense readiness as a result of this proposed sale.

Transmittal No. 25-81

Notice of Proposed Issuance of Letter of Offer Pursuant to Section 36(b)(1) of the Arms Export Control Act

Annex

Item No. vii

(vii) Sensitivity of Technology:

1. The AIM-120D-series Advanced Medium Range Air-to-Air Missile (AMRAAM) is a supersonic, air-launched, aerial intercept guided missile featuring digital technology and micro-miniature, solid-state electronics. AMRAAM capabilities include look-down/shoot-down, multiple launches against multiple targets, resistance to electronic countermeasures, and interception of high- and low-flying and maneuvering targets. The AIM-120D features a quadrangle target detection device and an electronics unit within the guidance section that performs all radar signal processing, mid-course and terminal guidance, flight control, target detection, and warhead detonation. Precise positioning will be provided by either Selective Availability Anti-Spoofing Module or M-Code. This potential sale will include an AMRAAM Integrated Test Vehicle and guidance and control sections.

2. The ADU-891 Adapter Group Test Set provides the physical and electrical interface between the Common Munitions Built-in-Test Reprogramming Equipment (CMBRE) and the missile.

3. The KGV-135A is a high-speed, general purpose encryptor/decryptor module used for wideband data encryption.

4. The highest level of classification of defense articles, components, and services included in this potential sale is SECRET.

5. If a technologically advanced adversary were to obtain knowledge of the specific hardware and software elements, the information could be used to develop countermeasures that might reduce system effectiveness or be used in the development of a system with similar or advanced capabilities.

6. A determination has been made that Germany can provide substantially the same degree of protection for the sensitive technology being released as the U.S. Government. This sale is necessary in furtherance of the U.S. foreign policy and national security objectives outlined in the Policy Justification.

7. All defense articles and services listed in this transmittal have been authorized for release and export to the Government of Germany.

[FR Doc. 2026-01509 Filed 1-26-26; 8:45 am]

BILLING CODE 6001-FR-P